DEPARTMENT OF COMMERCE

International Trade Administration

[A-570-891]

Hand Trucks and Certain Parts Thereof From The People's Republic of China: Notice of Decision of the Court of International Trade Not in Harmony

AGENCY: Import Administration, International Trade Administration, Department of Commerce.

SUMMARY: On October 22, 2008, the United States Court of International Trade (“CIT” or “Court”) sustained the final remand determination made by the Department of Commerce (“the Department”) pursuant to the Court's remand of the scope ruling of the antidumping duty order on hand trucks from the People's Republic of China (“PRC”). See Gleason Industrial Products, Inc. v. United States, Ct. No. 06-00089, Slip Op. 08-115 (Ct. Int'l Trade October 22, 2008) (“Gleason III”). This case arises out of the Department's antidumping duty order on hand trucks and certain parts thereof from the People's Republic of China. The final judgment in this case was not in harmony with the Department's February 2006 final scope ruling.

DATES: Effective Date: November 1, 2008.

FOR FURTHER INFORMATION CONTACT: Laurel LaCivita, AD/CVD Operations, Office 8, Import Administration, International Trade Administration, U.S. Department of Commerce, 14th Street and Constitution Avenue, NW., Washington DC 20230; telephone (202) 482-4243.

SUPPLEMENTARY INFORMATION: In December 2004, the Department placed an antidumping duty order on certain varieties of hand trucks manufactured in the People's Republic of China. See Antidumping Duty Order on Hand Trucks and Certain Parts Thereof from the People's Republic of China, 69 FR 70122 (December 2, 2004) (“Order”). In December 2005, Central Purchasing, LLC (“Central Purchasing”), requested the Department to determine whether two of the welding carts that it imported, models 93851 and 43615, were within the scope of the order. See Central Purchasing's Scope Ruling Request (December 19, 2005). The Petitioners, Gleason Industrial Products, Inc. and Precision Products, Inc. (“Gleason”), responded that both models of Central Purchasing's carts should be included within the scope of the Order. See Gleason's Response to Central Purchasing's Scope Request (January 4, 2006).

In an unpublished ruling, the Department found that both models of Central Purchasing's carts were outside the scope of the antidumping duty order. See Memorandum from Hilary E. Sadler, Case Analyst, though Wendy J. Frankel, Office Director, to Stephen J. Claeys, Acting Deputy Assistant Secretary for AD/CVD Operations: “Final Scope Ruling for Central Purchasing, LLC's Two Models of Welding Carts,” dated February 15, 2006 (“Final Scope Ruling ”).

On March 17, 2006, Gleason filed its summons with the Court alleging that the Final Scope Ruling was not supported by substantial evidence or otherwise in accordance with law. The Department requested a voluntary remand in November 2006 to reconsider its original determination, which the trial court granted. See Gleason Indus. Prods., Inc. v. United States, Ct. No. 06-00089, Slip Op. 07-40 (Ct. Int'l Trade March 16, 2007) (“Gleason I”).

On first remand, the Department reevaluated its position and determined that both models of welding carts were subject to the Order. The trial court affirmed the first remand results for model number 93851 in April 2008, but remanded the matter to Commerce to reexamine its findings for model 43615. See Gleason Indus. Prods., Inc. v. United States, 556 F. Supp. 2d 1344, 1347-49 (Ct. Int'l Trade 2008) (“Gleason II”). Commerce subsequently issued a second set of remand results in July 2008 in which it concluded that model 43615 lies outside of the scope of the antidumping duty order on hand trucks from the PRC. The trial court sustained Commerce's second remand results on October 22, 2008. See Gleason III. The United States Court of Appeals for the Federal Circuit subsequently affirmed the CIT's judgment in November 2009. See Gleason Indus. Prods. Inc. v. United States, Ct. No. 2009-1150 (Fed. Cir. November 4, 2009).

Timken Notice

In its decision in Timken Co., v. United States, 893 F. 2d 337, 341 (Fed. Cir. 1990) (“Timken”), the United States Court of Appeals for the Federal Circuit held that, pursuant to section 516A(e) of the Tariff Act of 1930, as amended (“the Act”), the Department must publish a notice of a court decision that is not “in harmony” with a Department determination. The Court's decision in Gleason III on October 22, 2008, constitutes a final decision of that court that is not in harmony with the Department's scope ruling. This notice is effective as of November 1, 2008 and is published in fulfillment of the publication requirements of Timken. Accordingly, the Department will issue revised instructions to U.S. Customs and Border Protection if the Court's decision is not appealed or if it is affirmed on appeal.

This notice is issued and published in accordance with section 516A(c)(1) of the Act.

Dated: January 22, 2010.
Ronald K. Lorentzen,
Deputy Assistant Secretary for Import Administration.

[FR Doc. 2010-1866 Filed 1-28-10; 8:45 am]

BILLING CODE 3510-DS-P